DEPARTMENT OF THE TREASURY

Customs Service

[T.D. 01-67; Customs Delegation Order No. 01-006]

Customs Succession and Performance of Essential Functions in the Event of a National Security Emergency

AGENCY: U.S. Customs Service, Department of the Treasury.

ACTION: Delegation order.

SUMMARY: This document sets forth Customs Delegation Order No. 01-006, signed by the Acting Commissioner of Customs on August 7, 2001, providing the order of succession of officers of the Customs Service to act as Commissioner of Customs in the event of a national emergency and delegating to various field officers the authority to perform essential functions in the event of a national security emergency.

EFFECTIVE DATE: August 7, 2001.

SUPPLEMENTARY INFORMATION:

Background

On August 7, 2001, Acting Commissioner of Customs Charles W. Winwood issued Customs Delegation Order Number 01-006, effective on that date, entitled “Customs Succession and Performance of Essential Functions in the Event of a National Security Emergency.”

The sources of the authority being delegated are Treasury Order 165 and Executive Order 12656, dated November 18, 1988.

Delegation Order 65, dated September 28, 1982, is superseded by Delegation Order Number 01-006.

The text of the delegation order is set forth below.

Dated: September 17, 2001.
Douglas M. Browning,
Acting Assistant Commissioner, Office of Regulations and Rulings.

Customs Succession and Performance of Essential Functions in the Event of a National Security Emergency

1. Order of Commissioner of Customs Succession

Under the authority of Treasury Department Order No. 165, and in compliance with Executive Order 12656, dated November 18, 1988, it is hereby ordered that the following officers of the U.S. Customs Service, in the order of succession enumerated, shall act as Commissioner, in the event of a national security emergency, which is defined as any occurrence, including natural disaster, military attack, technological emergency, or other emergency, that seriously degrades or seriously threatens the national security of the United States, or during the absence or disability of the Commissioner, or when there is a vacancy in such office. The order of succession is as follows:

The Deputy Commissioner of Customs

The Assistant Commissioner, Field Operations

The Assistant Commissioner, Investigations

The Assistant Commissioner, Finance

The Assistant Commissioner, Information and Technology

The Assistant Commissioner, Strategic Trade

The Assistant Commissioner, International Affairs

The Assistant Commissioner, Regulations and Rulings

The Assistant Commissioner, Internal Affairs

The Assistant Commissioner, Human Resources Management

The Assistant Commissioner, Training and Development

The Assistant Commissioner, Public Affairs

The Assistant Commissioner, Congressional Affairs

The Trade Ombudsman

The Director, Field Operations, New York Customs Management Center

The Director, Field Operations, South Florida Customs Management Center

2. Authority To Continue To Perform Essential Localized Functions

By virtue of the authority vested in the Commissioner by Treasury Department Order No. 165, and in compliance with Executive Order 12656, dated November 18, 1988, it is hereby delegated to the Directors of Field Operations; Port Directors; and Special Agents-in-Charge, the authority to perform any function of the Commissioner of Customs which is necessary to ensure continuous performance of essential local functions otherwise assigned to such officers, thereby assuring the continuity of the Federal Government in a national security emergency, as defined in (1) above. This delegation of authority will remain in effect until notice has been received from proper authority that it has been terminated.

Additional guidance may be found under Federal Preparedness Circular FPC-61 dated August 2, 1991 (Appendix K).

Charles W. Winwood,
Acting Commissioner of Customs.

[FR Doc. 01-23580 Filed 9-20-01; 8:45 am]

BILLING CODE 4820-02-P